DEPARTMENT OF COMMERCE

National Oceanic and Atmospheric Administration

50 CFR Part 635

[Docket No. 001113318-0318-01; I.D. 110200D]

RIN 0648-AO75

Atlantic Highly Migratory Species Fisheries; Atlantic Bluefin Tuna Incidental Catch

AGENCY: National Marine Fisheries Service (NMFS), National Oceanic and Atmospheric Administration (NOAA), Commerce.

ACTION: Advance notice of proposed rulemaking (ANPR); request for comments.

SUMMARY: NMFS intends to undertake rulemaking to reduce the level of Atlantic bluefin tuna (BFT) that is discarded dead by vessels in the pelagic longline fishery, and issues this ANPR to request comments on potential changes to the Atlantic tuna regulations that could reduce the level of dead discards of BFT including the adjustment of target catch requirements for landing incidental catch. The level of allowed discards needs to be reduced in order to decrease the waste of valuable bycatch.

DATES: Written comments on this ANPR must be received on or before December 14, 2000.

ADDRESSES: Written comments should be addressed to Christopher Rogers, Acting Chief, Highly Migratory Species Management Division (F/SF1), National Marine Fisheries Service, 1315 East-West Highway, Silver Spring, MD 20910.

FOR FURTHER INFORMATION CONTACT: Brad McHale or Pat Scida, 978-281-9260.

SUPPLEMENTARY INFORMATION: The Atlantic pelagic longline fishery, which commonly targets swordfish, sharks, and yellowfin and bigeye tunas, also occasionally catches BFT incidental to these other fisheries. Because the U.S. longline fleet has not historically targeted BFT, the portion of the U.S. national BFT quota allocated to the longline category has always been intended to account for incidental catch only. Accordingly, under current BFT regulations, vessels permitted in the Atlantic Tunas Longline category are permitted to retain and land BFT caught with pelagic longline gear only if a specific minimum level of other fish species are landed from the same trip. While the regulations pertaining to landing incidental BFT catch have been adjusted on several occasions, the pelagic longline industry continues to comment that the target catch requirements are overly restrictive and result in unnecessary dead discards.

Background

The history of U.S. regulatory activity and public comment regarding this issue dates back to the early 1980's. A full description of this history is provided in the Fishery Management Plan for Atlantic Tunas, Swordfish, and Sharks (HMS FMP) chapter 3, section 3.5.3 “Management Measures to Address Bycatch Problems.”

In 1998, the International Commission for the Conservation of Atlantic Tunas (ICCAT), in its recommendation on western BFT rebuilding, required that nations minimize dead discards of BFT to the extent practicable and established a dead discard allowance of 79 metric tons (mt) for western BFT, 68 mt of which was allocated to the United States. The 1998 ICCAT recommendation also provided that, if a nation exceeds its dead discard allowance in one year, that nation must deduct the excess from its following year’s landing quota. If the actual amount of dead discards is less than the allowance, one-half of the difference may be added to the allocation of catch that can be retained. Dead discards of BFT are reported to ICCAT by NMFS, along with landings data, and are summarized in the U.S. National Report to ICCAT.

The final rule that implemented the HMS FMP addressed the dead discard issue by establishing a time/area closure for the use of pelagic longline gear in the Northwestern Atlantic from 39° to 40° N. lat. and 68° to 74° W. long. during the month of June. This closed area was chosen to meet the goal of minimizing BFT dead discards while having the least economic impact on the directed pelagic longline fisheries. Since NMFS first implemented BFT incidental catch regulations, the agency has received public comment and inquiries regarding the target catch requirements to retain incidental catch of BFT and the effectiveness of the regulations in avoiding dead discards. These comments have continued after the publication of the HMS FMP.

Potential Adjustments

Several reviews of landings, logbook, and observer data have been conducted in recent years regarding the pelagic longline fisheries interaction with BFT. Observer data from longline trips (from 1991 to 1994) indicate that two or fewer BFT were hooked on 91 percent of all observed trips. Longline landings information for 1998 and 1999 indicate that median values for landed catch (not including BFT) are approximately 3,000 lb ( 1,361 kg) for trips made in the months of January through April, and 3,800 lb (1,724 kg) for trips made in May through December, in fisheries south of 34° N. lat.; and 3,700 lb (1,679 kg) for trips made throughout the year in fisheries north of 34° N. lat. For the same time period, 75 percent of the trips had a landed catch (other than BFT) of approximately 1,350 lb (613 kg) for trips made in the months of January through April, and 1,650 lb (749 kg) for trips made in May through December, in fisheries south of 34° N. lat; and 1,600 (726 kg) for trips made throughout the year in fisheries north of 34° N. lat.

Based on current landings and dead discard information, NMFS could consider several possible adjustments. One approach could be to undertake a comprehensive review and adjust target catch requirements, geographic location, and seasonal subdivisions. An alternative could be to adjust the target catch requirements while maintaining the current geographic and southern area seasonal subdivision. For example, in the Longline south subcategory, from January through April, one fish per vessel per fishing trip with at least 1,500 lb (680 kg) of target catch, or two fish per vessel per trip with at least 4,500 lb (2,040 kg) of target catch; from May through December, one fish per vessel per fishing trip with at least 3,500 lb (1,588 kg) of target catch, or two fish per vessel per trip with at least 6,000 lb (2,722 kg) of target catch. In the Longline north subcategory, one fish per vessel per fishing trip with at least 3,500 lb (1,588 kg), or two fish per vessel per trip, with at least 6,000 lb (2,722 kg) of target catch. Under this alternative, another option could be to adjust only the percent target catch requirement for the Northern area (e.g., 5 or 8 percent versus two percent) and to maintain the current target catch requirements, by season, for the south.

Another alternative could be to institute one target catch requirement (either a percent or a fixed number of BFT) coastwide regardless of season. For example, one BFT per vessel per fishing trip with at least 1,500 lb (680 kg) of target catch, or two fish per vessel per trip with at least 4,000 lb (1,815 kg) of target catch, or one BFT per trip, so long as other targeted species are landed. Under this alternative, another option could be to apply a percent target catch requirement coastwide.

Request for Comments

NMFS requests comments on possible changes to the BFT landings allowances as outlined above or on alternative means of reducing dead discards of BFT in the pelagic longline fisheries. Comments received by the due date will be considered in drafting any proposed changes to the Atlantic tuna regulations.

Authority: 16 U.S.C.971 et seq. and 1801 et seq.

Dated: November 13, 2000.
William T. Hogarth,
Deputy Assistant Administrator for Fisheries, National Marine Fisheries Service.

[FR Doc. 00-29473 Filed 11-14-00; 3:22 pm]

BILLING CODE 3510-22-S